DEPARTMENT OF LABOR

Employment and Training Administration

[TA-W-82,478]

Brayton International; A Subsidiary of Steelcase, Inc.; Including On-Site Leased Workers From Manpower Group, Experis, Bradley Personnel Inc., Graham Personnel Services, Aerotek, Workforce Unlimited, Experis, Impact Business Group, and Century Employer Organization LLC; High Point, North Carolina; Amended Certification Regarding Eligibility To Apply for Worker Adjustment Assistance

In accordance with Section 223 of the Trade Act of 1974, as amended (“Act”), 19 U.S.C. 2273, the Department of Labor issued a Certification of Eligibility to Apply for Worker Adjustment Assistance on March 11, 2013, applicable to workers of Brayton International, a subsidiary of Steelcase, Inc., including on-site leased workers from The Manpower Group/Experis, High Point, North Carolina. The Department's Notice of Determination was published in the Federal Register on March 8, 2013 (Volume 78 FR 15051).

At the request of a company official, the Department reviewed the certification for workers of the subject firm. The workers were engaged in activities related to the production of office furniture.

The company reports that workers leased from Bradley Personnel Inc., Graham Personnel Services, Aerotek, Workforce Unlimited, Experis, imPact Business Group, and Century Employer Organization LLC were employed on-site at the High Point, North Carolina location of Brayton International. The Department has determined that these workers were sufficiently under the control of the subject firm to be considered leased workers.

Based on these findings, the Department is amending this certification to include these leased workers on-site at the High Point, North Carolina location of Brayton International.

The amended notice applicable to TA-W-82,478 is hereby issued as follows:

All workers of Brayton International, a subsidiary of Steelcase, Inc., including on-site leased workers from Manpower Group, Experis, Bradley Personnel Inc., Graham Personnel Services, Aerotek, Workforce Unlimited, Experis, imPact Business Group, Century Employer Organization LLC, High Point, North Carolina, who became totally or partially separated from employment on or after February 15, 2012 through March 11, 2015, and all workers in the group threatened with total or partial separation from employment on the date of certification through March 11, 2015, are eligible to apply for adjustment assistance under Chapter 2 of Title II of the Trade Act of 1974, as amended.

Signed in Washington, DC, this 14th day of May, 2015.
Michael W. Jaffe,
Certifying Officer, Office of Trade Adjustment Assistance.

[FR Doc. 2015-15067 Filed 6-18-15; 8:45 am]

BILLING CODE 4510-FN-P